DEPARTMENT OF HEALTH AND HUMAN SERVICES

Centers for Disease Control and Prevention

Advisory Committee on Immunization Practices (ACIP)

In accordance with section 10(a)(2) of the Federal Advisory Committee Act (Pub. L. 92-463), the Centers for Disease Control and Prevention (CDC), announces the following meeting of the aforementioned committee:

Time and Date: 10 a.m.-12 p.m., August 5, 2010.

Place: The conference call will originate at the National Center for Immunization and Respiratory Diseases in Atlanta, Georgia. Please see SUPPLEMENTARY INFORMATION for details on accessing the conference call.

Status: Open to the public, limited only by the availability of telephone ports.

Purpose: The Committee is charged with advising the Director, CDC, on the appropriate use of immunizing agents. In addition, under 42 U.S.C. 1396s, the Committee is mandated to establish and periodically review and, as appropriate, revise the list of vaccines for administration to vaccine-eligible children through the Vaccines for Children (VFC) program, along with schedules regarding appropriate dosing intervals, dose, and contraindications to use of vaccines.

Matters To Be Discussed: To discuss recommendations for use of CSL trivalent inactivated influenza vaccine (TIV) for use in the United States during 2010-2011.

Supplementary Information: This conference call is scheduled to begin at 10 a.m., Eastern Daylight Time, United States. To participate in the conference call, please dial 1-800-857-9629 and reference passcode 3908107.

As provided under 41 CFR 102-3.150(b), the public health urgency of this agency business requires that the meeting be held prior to the first available date for publication of this notice in the Federal Register.

CONTACT PERSON FOR MORE INFORMATION: Leola Mitchell, National Center for Immunization and Respiratory Diseases, CDC, 1600 Clifton Road, NE., Mailstop E05, Atlanta, Georgia 30333, telephone 404/639-8836, fax 404/639-8905, e-mail acip@cdc.gov.

The Director, Management Analysis and Services Office, has been delegated the authority to sign Federal Register notices pertaining to announcements of meetings and other committee management activities for both the CDC and ATSDR.

Dated: July 21, 2010.
Michael J. Lanzilotta,
Acting Director, Management Analysis and Services Office, Centers for Disease Control and Prevention.

[FR Doc. 2010-18403 Filed 7-26-10; 8:45 am]

BILLING CODE 4160-18-P